DEPARTMENT OF COMMERCE

International Trade Administration

A-570-601

Notice of Extension of Final Results of the 2003-2004 Administrative Review of Tapered Roller Bearings and Parts Thereof, Finished and Unfinished, from the People's Republic of China

AGENCY: Import Administration, International Trade Administration, Department of Commerce.

EFFECTIVE DATE: November 8, 2005.

FOR FURTHER INFORMATION CONTACT: Robert Bolling or Laurel LaCivita, AD/CVD Operations, Office 8, Import Administration, International Trade Administration, U.S. Department of Commerce, 14th Street and Constitution Avenue, NW, Washington DC 20230; telephone: (202) 482-3434 and (202) 482-4243, respectively.

SUPPLEMENTARY INFORMATION:

Background

On July 11, 2005, the Department published the preliminary results of review and partial rescission of this administrative review of TRBs from the PRC. See Tapered Roller Bearings and Parts Thereof, Finished or Unfinished, from the People's Republic of China: Preliminary Results of Antidumping Duty Administrative Review and Notice of Intent to Rescind in Part, 70 FR 39744 (July 11, 2005) (“Preliminary Results”). In the Preliminary Results we stated that we would make our final determination for the antidumping duty review no later than 120 days after the date of publication of the preliminary results (i.e., November 8, 2005).

Extension of Time Limit for Final Results

The Department of Commerce (“the Department”) is extending the time limit for the final results of the administrative review of the antidumping duty order on tapered roller bearings and parts thereof, finished and unfinished (“TRBs”), from the People's Republic of China (“PRC”). This review covers the period June 1, 2003, through May 31, 2004.

Section 751(a)(3)(A) of the Act states that if it is not practicable to complete the review within the time specified, the administering authority may extend the 120-day period, following the date of publication of the preliminary results, to issue its final results by an additional 60 days. Completion of the final results within the 120-day period is not practicable due to issues arising from verification.

Therefore, in accordance with section 751(a)(3)(A) of the Act, the Department is extending the time period for issuing the final results of review by an additional sixty days until no later than January 7, 2006.

Dated: November 2, 2005.
Stephen J. Claeys,
Deputy Assistant Secretary for Import Administration.

[FR Doc. 05-22251 Filed 11-7-05; 8:45 am]

BILLING CODE 3510-DS-S